FEDERAL ELECTION COMMISSION

Sunshine Act Meeting

AGENCY: Federal Election Commission.

DATE AND TIME: Tuesday March 17, 2015 at 10:00 a.m. and Its Continuation on Thursday March 19, 2015 at the Conclusion of the Open Meeting.

PLACE: 999 E Street NW., Washington, DC.

STATUS: This Meeting Will Be Closed To The Public.

Federal Register Notice of Previous Announcement—80 FR 13376

THIS ITEM WAS ALSO DISCUSSED: Internal personnel rules and internal rules and practices.

CHANGE IN THE MEETING: This meeting will be continued at a future date.

* * * * *

PERSON TO CONTACT FOR INFORMATION: Judith Ingram, Press Officer, Telephone: (202) 694-1220.

Shawn Woodhead Werth,
Secretary and Clerk of the Commission.

[FR Doc. 2015-06802 Filed 3-20-15; 4:15 pm]

BILLING CODE 6715-01-P